DEPARTMENT OF HOUSING AND URBAN DEVELOPMENT

[Docket No. FR-5300-C-19]

HUD's Fiscal Year (FY) 2009 NOFA for Section 811 Housing for Persons With Disabilities (Section 811 Program); Technical Correction

AGENCY: Office of the Assistant Secretary for Housing—Federal Housing Commissioner, HUD.

ACTION: Notice; technical correction.

SUMMARY: On September 1, 2009, HUD posted its Notice of Funding Availability (NOFA) for Section 811 Housing for Persons with Disabilities (Section 811 Program) for Fiscal Year 2009. The technical corrections to the NOFA are available on the Grants.gov Web site at http://www.grants.gov. The CFDA number for Section 811 Housing for Persons with Disabilities (Section 811 Program) is 14.181. The technical correction contains program clarifications and a deadline change. The original deadline of November 16, 2009 for Section 811 Housing for Persons with Disabilities grant applications under this NOFA has been extended; the application deadline date is December 17, 2009.

FOR FURTHER INFORMATION CONTACT: For questions concerning these technical corrections, please contact Marvis Hayward, Program Manager, Office of Housing Assistance and Grants Administration, Office of Housing, Department of Housing and Urban Development, 451 Seventh Street, SW., Washington, DC 20410; telephone 202-402-2255 (this is not a toll-free number); e-mail marvis.s.hayward@hud.gov. Persons with hearing or speech impairments may access these numbers via TTY by calling the Federal Information Relay Service at 800-877-8339.

Dated: November 12, 2009.
David H. Stevens,
Assistant Secretary for Housing—Federal Housing Commissioner.

[FR Doc. E9-27678 Filed 11-17-09; 8:45 am]

BILLING CODE 4210-67-P